DEPARTMENT OF COMMERCE

International Trade Administration

[A-201-504]

Porcelain-on-Steel Cookware From Mexico: Amended Final Results of Antidumping Duty Administrative Review

AGENCY: Import Administration, International Trade Administration, Department of Commerce.

EFFECTIVE DATE: June 6, 2000.

FOR FURTHER INFORMATION CONTACT: Katherine Johnson or David J. Goldberger, Import Administration, International Trade Administration, U.S. Department of Commerce, 14th Street and Constitution Avenue, N.W., Washington, D.C. 20230; telephone, (202) 482-4929 or (202) 482-4136, respectively.

Applicable Statute and Regulations

Unless otherwise indicated, all citations to the Tariff Act of 1930, as amended (the Act), are references to the provisions effective January 1, 1995, the effective date of the amendments made to the Act by the Uruguay Round Agreements Act (URAA). In addition, unless otherwise indicated, all citations to the Department of Commerce's (Department's) regulations are to 19 CFR Part 351 (1998).

Scope of the Review

Imports covered by this review are shipments of porcelain-on-steel cookware, including tea kettles, which do not have self-contained electric heating elements. All of the foregoing are constructed of steel and are enameled or glazed with vitreous glasses. This merchandise is currently classifiable under Harmonized Tariff Schedule of the United States (HTSUS) subheading 7323.94.00. Kitchenware currently classifiable under HTSUS subheading 7323.94.00.30 is not subject to the order. Although the HTSUS subheadings are provided for convenience and Customs purposes, our written description of the scope of this proceeding is dispositive.

Amendment to Final Results

In accordance with section 751(a) of the Act, on May 4, 2000, we issued our final results of the 1997-1998 administrative review of the antidumping duty order on porcelain-on-steel cookware from Mexico in which we determined that sales of porcelain-on-steel cookware from Mexico were made at less than normal value (65 FR 30068, May 10, 2000). On May 9, 2000, we received an allegation, timely filed pursuant to 19 CFR 351.224(c)(2), from the petitioner, Columbian Home Products, LLC, that the Department made a ministerial error in its final results. We did not receive ministerial error allegations from Cinsa, S.A. de C.V. (Cinsa) or Esmaltaciones de Norte America, S.A. de C.V. (ENASA).

After analyzing petitioner's submission, we have determined, in accordance with 19 CFR 351.224, that a ministerial error was made in our final margin calculations for Cinsa. Specifically, certain indirect selling expenses incurred in Mexico by Cinsa in connection with sales to the unaffiliated customer in the United States, which were formerly classified as export prices sales, were not: (1) Deducted from the constructed export price (CEP) calculation; (2) included in the pool of U.S. indirect selling expenses used to calculate the CEP offset; and (3) included in the calculation of CEP profit due to a programming error. We have now corrected the programming error. For a detailed discussion of the ministerial error allegation and the Department's analysis, see the Memorandum to Louis Apple from the Team, dated May 30, 2000.

Therefore, in accordance with section 751(h) of the Act and 19 CFR 351.224(e), we are amending the final results of the 1997-1998 antidumping duty administrative review on porcelain-on-steel cookware from Mexico.

The revised weighted-average dumping margins are as follows:

Manufacturer/ exporter | Original final margin percentage | Revised final margin percentage
Cinsa | 8.96 | 9.31
ENASA | 27.37 | 27.37

This amended final results of administrative review and notice are in accordance with section 751(a)(1) of the Act (19 U.S.C. 1675(a)(1)), section 777(i) of the Act (19 U.S.C. 1677f(i)), and 19 CFR 351.210(c).

Dated: May 20, 2000.
Troy H. Cribb,
Acting Assistant Secretary for Import Administration.

[FR Doc. 00-14203 Filed 6-5-00; 8:45 am]

BILLING CODE 3510-DS-P